DEPARTMENT OF ENERGY

Federal Energy Regulatory Commission

[Docket No. EL17-15-000]

Big Rivers Electric Corporation v. Midcontinent Independent System Operator, Inc.; Notice of Complaint

Take notice that on November 4, 2016, pursuant to section 206 of the Federal Power Act, 16 U.S.C. 824e, and Rules 206 and 212 of the Federal Energy Regulatory Commission's (Commission) Rules of Practice and Procedure, 18 CFR 385.206 and 385.212 (2016), Big Rivers Electric Corporation (Complainant) filed a formal complaint against Midcontinent Independent System Operator, Inc. (Respondent) alleging that Respondent's application of the relevant Open Access Transmission, Energy and Operating Reserves Markets Tariff provisions to Complainant is not just and reasonable, all as more fully explained in the complaint.

Complainant certifies that a copy of the complaint has been served on MISO and on the Kentucky Public Service Commission.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainant.

The Commission encourages electronic submission of protests and interventions in lieu of paper using the “eFiling” link at http://www.ferc.gov. Persons unable to file electronically should submit an original and 5 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on November 24, 2016.

Dated: November 7, 2016.
Kimberly D. Bose,
Secretary.

[FR Doc. 2016-27379 Filed 11-14-16; 8:45 am]

BILLING CODE 6717-01-P